DEPARTMENT OF THE TREASURY

Office of Foreign Assets Control

Identification of Entity Pursuant to the Iranian Transactions and Sanctions Regulations and Executive Order 13599

AGENCY: Office of Foreign Assets Control, Department of the Treasury.

ACTION: Notice.

SUMMARY: The Treasury Department's Office of Foreign Assets Control (“OFAC”) is publishing the name of one entity identified as the Government of Iran under the Iranian Transactions and Sanctions Regulations (the “ITSR”), 31 CFR Part 560, and Executive Order 13599, and has updated OFAC's list of Specially Designated Nationals and Blocked Persons (“SDN List”) to identify this entity.

DATES: The identification by the Director of OFAC of the entity identified in this notice, pursuant to the ITSR and Executive Order 13599, was announced on May 9, 2013.

FOR FURTHER INFORMATION CONTACT: Assistant Director, Sanctions Compliance and Evaluation, Office of Foreign Assets Control, Department of the Treasury, Washington, DC 20220, Tel.: 202/622-2490.

SUPPLEMENTARY INFORMATION:

Electronic and Facsimile Availability

The SDN List and additional information concerning OFAC are available from OFAC's Web site (www.treas.gov/ofac). Certain general information pertaining to OFAC's sanctions programs also is available via facsimile through a 24-hour fax-on-demand service, Tel.: 202/622-0077.

Background

On February 5, 2012, the President issued Executive Order 13599, “Blocking Property of the Government of Iran and Iranian Financial Institutions” (the “Order”). Section 1(a) of the Order blocks, with certain exceptions, all property and interests in property of the Government of Iran, including the Central Bank of Iran, that are in the United States, that hereafter come within the United States, or that are or hereafter come within the possession or control of any United States person, including any foreign branch.

Section 7(d) of the Order defines the term “Government of Iran” to mean the Government of Iran, any political subdivision, agency, or instrumentality thereof, including the Central Bank of Iran, and any person owned or controlled by, or acting for or on behalf of, the Government of Iran.

Section 560.211 of the ITSR implements Section 1(a) of the Order. Section 560.304 of the ITSR defines the term “Government of Iran” to include: “(a) The state and the Government of Iran, as well as any political subdivision, agency, or instrumentality thereof, including the Central Bank of Iran; (b) Any person owned or controlled, directly or indirectly, by the foregoing; and (c) Any person to the extent that such person is, or has been, since the effective date, acting or purporting to act, directly or indirectly, for or on behalf of any of the foregoing; and (d) Any other person determined by the Office of Foreign Assets Control [(“OFAC”)] to be included within [(a) through (c)].” Section 560.313 of the ITSR further defines an “entity owned or controlled by the Government of Iran” to include “any corporation, partnership, association, or other entity in which the Government of Iran owns a 50 percent or greater interest or a controlling interest, and any entity which is otherwise controlled by that government.” On May 9, 2013, the Director of OFAC identified one entity as meeting the definition of the Government of Iran pursuant to the Order and the ITSR, and updated the SDN List to identify this entity.

The listing for this entity is as follows:

1. SAMBOUK SHIPPING FZC, FITCO Building No. 3, Office 101, 1st Floor, P.O. Box 50044, Fujairah, United Arab Emirates; Office 1202, Crystal Plaza, P.O. Box 50044, Buhaira Corniche, Sharjah, United Arab Emirates [IRAN] (Linked To: CAMBIS, Dimitris).

Dated: May 9, 2013.
Adam J. Szubin,
Director, Office of Foreign Assets Control.

[FR Doc. 2013-12219 Filed 5-21-13; 8:45 am]

BILLING CODE 4810-AL-P